DEPARTMENT OF DEFENSE

Office of the Secretary

[Docket ID: DoD-2013-OS-0210]

Privacy Act of 1974; System of Records

AGENCY: Defense Intelligence Agency, DoD.

ACTION: Notice to amend two Systems of Records.

SUMMARY: The Defense Intelligence Agency is proposing to amend two systems of records, LDIA 0660, “Security and Counterintelligence Records” and LDIA 0900, “Accounts Receivable, Indebtedness and Claims” in its existing inventory of records systems subject to the Privacy Act of 1974, as amended.

DATES: This proposed action will be effective on December 16, 2013 unless comments are received which result in a contrary determination. Comments will be accepted on or before December 16, 2013.

ADDRESSES: You may submit comments, identified by docket number and title, by any of the following methods:

* Federal Rulemaking Portal: http://www.regulations.gov. Follow the instructions for submitting comments.

* Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery at Defense Intelligence Agency, FAC 2A, 600 MacDill Blvd., Washington, DC 20340-0001 or by phone at (202) 231-1193.

SUPPLEMENTARY INFORMATION: The Defense Intelligence Agency system of records notices subject to the Privacy Act of 1974 (5 U.S.C. 552a), as amended, have been published in the Federal Register and are available from the address at FOR FURTHER INFORMATION CONTACT or from the Defense Privacy and Civil Liberties Office Web site at http://dpclo.defense.gov/privacy/SORNs/component/dia/index.html.

The proposed amendment is not within the purview of subsection (r) of the Privacy Act of 1974 (5 U.S.C. 552a), as amended, which requires the submission of a new or altered system report.

Dated: November 8, 2013.
Aaron Siegel,
Alternate OSD Federal Register Liaison Officer, Department of Defense.

LDIA 0660

System name:

Security and Counterintelligence Records (May 3, 2012, 77 FR 26262).

* * * * *

Changes:

Notification procedure:

Delete entry and replace with “Individuals seeking to determine whether information about themselves is contained in this system of records should address written inquiries to the DIA Freedom of Information Office (FAC-2A), Defense Intelligence Agency, 200 MacDill Blvd., Washington, DC 20340-5100.

Request should contain the individual's full name, current address, and telephone number.”

Record access procedures:

Delete entry and replace with “Individuals seeking access to information about themselves, contained in this system of records, should address written inquiries to the DIA Freedom of Information Office (FAC-2A), 200 MacDill Blvd., Washington, DC 20340-5100.

Request should contain the individual's full name, current address, and telephone number.”

* * * * *

LDIA 0900

System name:

Accounts Receivable, Indebtedness and Claims (May 3, 2012, 77 FR 26256).

* * * * *

Changes:

Notification procedure:

Delete entry and replace with “Individuals seeking to determine whether information about themselves is contained in this system of records should address written inquiries to the DIA Freedom of Information Office (FAC-2A), Defense Intelligence Agency, 200 MacDill Blvd., Washington, DC 20340-5100.

Request should contain the individual's full name, current address, and telephone number.”

Record access procedures:

Delete entry and replace with “Individuals seeking access to information about themselves, contained in this system of records, should address written inquiries to the DIA Freedom of Information Office (FAC-2A), 200 MacDill Blvd., Washington, DC 20340-5100.

Request should contain the individual's full name, current address, and telephone number.”

* * * * *

[FR Doc. 2013-27286 Filed 11-14-13; 8:45 am]

BILLING CODE 5001-06-P